DEPARTMENT OF EDUCATION

Application for New Awards Deadline Date; Higher Education Emergency Relief Fund (HEERF), Sections 18004(a)(1), 18004(a)(2), and 18004(a)(3); Coronavirus Aid, Relief, and Economic Security (CARES) Act

AGENCY: Office of Postsecondary Education, U.S. Department of Education.

ACTION: Notice.

SUMMARY: This notice establishes the deadline date for institutions of higher education (IHEs) that did not initially apply to receive allocations to transmit their applications for funds from the Higher Education Emergency Relief Fund under sections 18004(a)(1), 18004(a)(2), and 18004(a)(3) of the CARES Act as August 1, 2020.

This notice applies to applications under the following Catalog of Federal Domestic Assistance (CFDA) numbers:

• 84.425E—Student Aid portion of 18004(a)(1)

• 84.425F—Institutional portion of 18004(a)(1)

• 84.425J—Historically Black College and Universities under section 18004(a)(2)

• 84.425K—Tribally Control Colleges and Universities under section 18004(a)(2)

• 84.425L—Minority Serving Institutions under section 18004(a)(2)

• 84.425M—Strengthening Institutions Program under section 18004(a)(2)

• 84.425N—Fund for the Improvement of Postsecondary Education (FIPSE) under section 18004(a)(3)

This notice relates to the approved information collections under OMB control numbers 1801-0005, 1840-0842, and 1840-0843.

DATES: Deadline for Transmittal of Applications: August 1, 2020.

FOR FURTHER INFORMATION CONTACT: Lauren Kennedy, U.S. Department of Education, 400 Maryland Avenue SW, Room 278-24, Washington, DC 20202-4260. Telephone: (202) 453-7957. Email: Lauren.Kennedy@ed.gov or HEERF@ed.gov.

If you use a telecommunications device for the deaf (TDD) or a text telephone (TTY), call the Federal Relay Service (FRS), toll free, at 1-800-877-8339.

SUPPLEMENTARY INFORMATION: In order for the Department to expeditiously calculate and redistribute any reserved or unclaimed funds from the HEERF under sections 18004(a)(1), 18004(a)(2), and 18004(a)(3) of the CARES Act, this notice establishes the deadline date for transmittal of applications for such funds as August 1, 2020. This notice applies to applications under CFDA numbers 84.425E and 84.425F under section 18004(a)(1), 84.425J, 84.425K, 84.425L, 84.425M under 18004(a)(2), and 84.425N under section 18004(a)(3). Applicants should refer to the procedures outlined on the Department's CARES Act: Higher Education Emergency Relief Fund website for additional information on the procedures for applying for these funds, at https://www2.ed.gov/about/offices/list/ope/caresact.html.

Program Authority: Sections 18004(a)(1), 18004(a)(2), and 18004(a)(3) of Title VIII of Division B of the CARES Act, Pubblic Law 116-36 (enacted March 27, 2020).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for Postsecondary Education.

[FR Doc. 2020-13645 Filed 6-23-20; 8:45 am]

BILLING CODE 4000-01-P